DEPARTMENT OF DEFENSE

Department of the Army, Corps of Engineers

Notice of Intent To Prepare a Draft Environment Impact Statement and Conduct a Public Scoping Meeting for the Proposed Thousand Palms Flood Control Project Within the Thousand Palms Area of Coachella Valley, Riverside County, California (Corps File No. SPL-2014-00238-RJV)

AGENCY: Department of the Army, U.S. Army Corps of Engineers, DoD.

ACTION: Notice of intent.

SUMMARY: The purpose of this notice is to initiate a 45-day scoping process for preparation of a Draft Environmental Impact Statement (DEIS) for the Coachella Valley Water District's (CVWD) proposed Thousand Palms Flood Control Project.

DATES: Submit comments concerning this notice on or before December 19, 2016. A public scoping meeting will be held on December 6, 2016 at 6:00 p.m. (PST).

ADDRESSES: The scoping meeting location is: Thousand Palms Community Center, 31-189 Roberts Road, Thousand Palms, CA 92276.

Mail written comments concerning this notice to: U.S. Army Corps of Engineers, Los Angeles District, Regulatory Division, Carlsbad Field Office, ATIN: SPL-2014-00238-RJV, 5900 La Place Court, Suite 100, Carlsbad, CA 92008. Comment letters should include the commenter's physical mailing address, the project title and the Corps file number in the subject line.

FOR FURTHER INFORMATION CONTACT: Michelle Lynch, U.S. Army Corps of Engineers, Los Angeles District, Regulatory Division, Carlsbad Field Office, ATTN: SPL-2014-00238-RJV, 5900 La Place Court, Suite 100, Carlsbad, CA 92008, (760) 602-4850, michelle.r.lynch@usace.army.mil.

SUPPLEMENTARY INFORMATION: In accordance with the National Environmental Policy Act (NEPA), the Corps is preparing an Environmental Impact Statement (EIS) prior to any permit action. The Corps may ultimately make a determination to permit or deny the proposed project or a modified version of the proposed project. The primary Federal concerns are the discharge of fill material into waters of the United States.

Authority: 33 U.S.C. 1344.

1. Project Description. CVWD is proposing to construct a flood control project that is linear in nature, consists of four reaches, and is generally located on the northern and eastern margins of the community of Thousand Palms. Components of the project include levees, channels, culverts, and a sediment basin. The levees and channels would be comprised of compacted native soil with a layer of soil cement to protect the structures from erosion. Reach 1 is comprised of a 2.4 mile long levee with varying height from 5 to 14 feet, a minimum 12-foot access (patrol) road on the top of the levee, as well as an unpaved embankment access road on the downstream (west side) of the levee for operations and maintenance (O&M) purposes. Reach 2 is comprised of a 0.33 mile long levee with a height of approximately 5 feet, a minimum 12-foot access (patrol) road on the top of the levee, as well as an unpaved embankment access road on the downstream (west side) of the levee for O&M purposes and would be positioned in the mid-alluvial fan area just northeast of an existing electrical substation, to protect the substation and adjacent development. Reach 3 is comprised of a 1.23 mile long levee, an access road, and a 1.01 mile channel. The levee height would vary from 5 to 14 feet and would initiate approximately 2,000 feet southwest of the downstream end of Reach 2, roughly 1,000 feet south of Ramon Road. The channel would divert flows from Levee 3 towards the existing stormwater conveyance system at the Classic Club Golf Course. Reach 4 is comprised of an approximately two-mile long channel that would divert stormwater flows from the southeast end of the Classic Club Golf Course and continue south then east, adjacent to the re-aligned Avenue 38, and would terminate at Washington Street with construction of a conveyance system to direct stormwater flows into existing stormwater conveyance facilities in the Del Webb/Sun City development.

2. Issues. Potentially significant impacts associated with the proposed project may include: Aesthetics/visual impacts, air quality emissions, biological resource impacts, noise, traffic and transportation, and cumulative impacts from past, present and reasonably foreseeable future projects.

3. Alternatives. The Draft EIS will include a co-equal analysis of several alternatives. Project alternatives will be further developed during this scoping process. Additional alternatives that may be developed during scoping will also be considered in the Draft EIS.

4. Scoping. The Corps and CVWD will jointly conduct a public scoping meeting to receive public comment regarding the appropriate scope and preparation of the Draft EIS. Participation by Federal, state, and local agencies and other interested organizations and persons is encouraged.

5. The Draft EIS is expected to be available for public review and comment 6 to 12 months after the scoping meeting, and a public meeting may be held after its publication.

Dated: October 25, 2016.
David Castanon,
Chief, Regulatory Division.

[FR Doc. 2016-27063 Filed 11-8-16; 8:45 am]

BILLING CODE 3720-58-P